DEPARTMENT OF TRANSPORTATION

Federal Aviation Administration

[Docket No. FAA-2019-0848]

Agency Information Collection Activities: Requests for Comments; Clearance of a New Approval of Information Collection: Aviation Maintenance Technical Workforce Development Grant Program

AGENCY: Federal Aviation Administration (FAA), DOT.

ACTION: Notice and request for comments.

SUMMARY: In accordance with the Paperwork Reduction Act of 1995, FAA invites public comments about our intention to request the Office of Management and Budget (OMB) approval for a new information collection. The collection involves the establishment of a new grant program in the FAA for the Aviation Maintenance Technical Workforce Development. The information to be collected will be used for selecting projects.

DATES: Written comments should be submitted by January 27, 2020.

ADDRESSES: Please send written comments:

By Electronic Docket: www.regulations.gov (Enter docket number into search field).

By mail: Linda Long, William J. Hughes Technical Center, Atlantic City International Airport, B300, 2nd Floor, Column H-15, Atlantic City, NJ 08405.

By fax: 609-485-4101.

FOR FURTHER INFORMATION CONTACT: Linda Long by email at: Linda.Long@faa.gov; phone: 609-485-8902.

SUPPLEMENTARY INFORMATION:

Public Comments Invited: You are asked to comment on any aspect of this information collection, including: (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Aviation Maintenance Technical Workforce Development Grant Program.

Form Numbers: Form SF-424, SF-424A, SF424B, SF-LLL, Key Contacts Form V1.0, Project Narrative Attachment Form V1.2, Budget Narrative Attachment Form V1.2, Project/Performance Site Location (s) V2.0, Other Attachment Form V1.2.

Type of Review: New information collection.

Background: This is a request for a new collection and is required to retain a benefit from the Federal Aviation Administration (FAA). The new collection will be conducted for reporting purposes and will assist in the FAA in administering a new Aircraft Pilots Workforce Development Grant Program. The program is mandated by FAA Reauthorization of 2018, Public Law No: 115-254 for the purpose to: (1) Establish new educational programs that teach technical skills used in aviation maintenance, including purchasing equipment or to improve existing such programs. (2) Enhance aviation maintenance technical education or aviation maintenance industry workforce. (3) To establish scholarships or apprenticeships for individuals pursuing employment in the aviation maintenance industry. (4) Support outreach about careers in the aviation maintenance industry to: Primary, secondary and post-secondary school students, communities under-represented in the industry. (5) Support transition to careers in aviation maintenance; including members of the Armed Forces. (6) Support educational opportunities related to aviation maintenance in economically disadvantaged geographic areas.

Under this new authority, the FAA intends to collect information from the following categories of eligible applicants identified in the legislation: (1) Accredited Higher Education Institution (20 U.S.C. 1001), Secondary school or high school (20 U.S.C. 7801). (2) State or local governmental entity. (3) A holder of a certificate issued under part 21, 121, 135, or 145 of title 14, Code of Federal Regulations or a labor organization representing aviation maintenance.

The collection will be conducted by the FAA in applications for grant awards not more frequently than annually with quarterly and final reports from all grant recipients. It will provide critical data on locations where the grant dollars are being used to plan and respond the aircraft pilot workforce shortage. This information will provide the FAA with an indication of where gaps exist in planning for the workforce shortage and will help the FAA determine which projects have the great ability to help address the forecasted aviation maintenance technical workers shortage.

Respondents: The Legislation identified the following categories of applicants as eligible to apply for grants under this program. The Program expects approximately 15 respondents from each of the below categories for a total of approximately 45 total respondents:

(1) Accredited Higher Education Institution (20 U.S.C. 1001), Secondary school or high school (20 U.S.C. 7801)

(2) State or local government entity

(3) A holder of a certificate issued under part 21, 121, 135, or 145 of title 14, Code of Federal Regulations or a labor organization representing aviation maintenance

Frequency: The collection will be conducted by the FAA in applications for grant awards not more frequently than annually with quarterly and final reports from all grant recipients.

Estimated Average Burden per Response: 4 hours.

Estimated Total Annual Burden Hours: Estimated to be 560 hours.

Issued in Atlantic City, NJ, on November 21, 2019.
Linda A. Long,
Program Manager, Aviation Workforce Development Grant Programs, NextGen Partnership Contracts Branch (ANG-A17).

[FR Doc. 2019-25681 Filed 11-25-19; 8:45 am]

BILLING CODE 4910-13-P